INTERNATIONAL TRADE COMMISSION

[Investigation No. 751-TA-30]

Fresh Tomatoes From Mexico; Institution and Scheduling of Review Investigation Concerning the Commission's Affirmative Determination in Investigation No. 731-TA-747 (Final), Fresh Tomatoes From Mexico

AGENCY: United States International Trade Commission.

ACTION: Notice.

SUMMARY: The Commission hereby gives notice that it has instituted an investigation pursuant to section 751(b) of the Tariff Act of 1930 (19 U.S.C. 1675(b)) (the Act) to review its determination in investigation No. 731-TA-747 (Final).¹ The purpose of the investigation is to determine whether revocation of the antidumping duty order on fresh tomatoes from Mexico is likely to lead to continuation or recurrence of material injury to an industry in the United States. Fresh tomatoes from Mexico are provided for in heading 0702.00 of the Harmonized Tariff Schedule of the United States.

¹ Chair Karpel determined that the changed circumstances alleged by Mexican respondent interested parties in their request for a review are not sufficient to warrant institution of a review under section 751(b). Commissioner Kearns determined that the changed circumstances alleged by Mexican respondent interested parties are sufficient to warrant institution of a review under section 751(b). Commissioner Johanson did not participate in this proceeding. As one half of the number of Commissioners voting agree that the review should be initiated, the Commission is instituting that review. See 19 U.S.C. 1330(d)(5).

DATES: Applicable January 21, 2026.

FOR FURTHER INFORMATION CONTACT: Lawrence Jones (202-205-3358), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION:

Background.—The antidumping petition concerning fresh tomatoes from Mexico was deemed by the Commission and Department of Commerce (Commerce) to be filed on April 1, 1996 by the Florida Tomato Growers Exchange, the Florida Tomato Exchange, the Tomato Committee of the Florida Fruit and Vegetable Association, the South Carolina Tomato Association, the Gadsden County Tomato Growers Association, and an Ad Hoc Group of Florida, California, Georgia, Pennsylvania, South Carolina, and Virginia Tomato Growers (61 FR 18377, April 25, 1996). On May 16, 1996, the Commission notified Commerce that it reached an affirmative preliminary determination in its antidumping duty investigation (61 FR 28890, June 6, 1996). On October 28, 1996, Commerce signed a suspension agreement with certain growers/exporters of fresh tomatoes from Mexico that accounted for substantially all imports of fresh tomatoes from Mexico, in which “each signatory producer/exporter . . . agreed to revise its prices to eliminate completely the injurious effects of exports” of fresh tomatoes to the United States (61 FR 56618, November 1, 1996). Effective November 1, 1996, the Commerce suspended its antidumping duty investigation on imports of fresh tomatoes from Mexico (61 FR 56618, November 1, 1996). Effective the same day, the Commission suspended the final phase of its investigation (61 FR 58217, November 13, 1996).

On October 1, 2001, Commerce initiated and the Commission instituted their first five-year reviews of the suspended investigations (66 FR 49926, 49975). After the withdrawal from the suspension agreement by certain Mexican tomato growers, Commerce terminated the suspension agreement (67 FR 50858, August 6, 2002), and both Commerce and the Commission terminated their first five-year reviews and resumed their antidumping investigations, effective July 30, 2002 (67 FR 53361, August 15, 2002; 67 FR 56854, September 5, 2002). On December 16, 2002, Commerce and the Commission suspended their resumed investigations when Commerce signed a new suspension agreement with certain growers/exporters of fresh tomatoes from Mexico (67 FR 77044, December 16, 2002; 67 FR 78815, December 26, 2002). On November 1, 2007, Commerce initiated and the Commission instituted their second five-year reviews of the suspended investigations (72 FR 61861, 61903, November 1, 2007). Once again, based on the withdrawal from the suspension agreement by certain Mexican tomato growers, Commerce terminated the suspension agreement (73 FR 2887, January 16, 2008), and both Commerce and the Commission terminated their second five-year reviews and resumed their antidumping investigations, effective January 18, 2008 (73 FR 2888, January 18, 2008; 73 FR 5869, January 31, 2008). The resumed antidumping investigations were again suspended by Commerce and the Commission when Commerce signed a new suspension agreement with certain growers/exporters of fresh tomatoes from Mexico, effective January 22, 2008 (73 FR 4831, January 28, 2008; 73 FR 7762, February 11, 2008). On December 1, 2012, Commerce initiated its third five-year review of the suspended investigation (77 FR 71684, December 3, 2012), and on December 3, 2012, the Commission instituted its third five-year review of the suspended investigation (77 FR 71629, December 3, 2012). Based on the withdrawal from the suspension agreement by certain Mexican tomato growers/exporters, Commerce terminated the suspension agreement and its third five-year review of the suspended investigation, and resumed its investigation, effective March 1, 2013 (78 FR 14771, March 7, 2013). On March 4, 2013, the Commission terminated its review of the suspended investigation and resumed the final phase of its investigation (78 FR 16529, March 15, 2013). Also on March 4, 2013, Commerce signed a new agreement with certain growers/exporters of fresh tomatoes from Mexico, and again suspended its resumed investigation (78 FR 14967, March 8, 2013). On March 5, 2013, the Commission suspended its resumed final phase investigation (78 FR 16530, March 15, 2013).

On February 1, 2018, Commerce initiated and the Commission instituted their fourth five-year reviews of the suspended investigations (83 FR 4641, 4676, February 1, 2018). After receipt of a request by the Florida Tomato Exchange, an association of domestic growers and packers of fresh tomatoes and a petitioner in the original investigation, Commerce terminated the suspension agreement and resumed its investigation, effective May 13, 2019 (84 FR 20858, May 13, 2019). Also on May 7, 2019, the Commission terminated its review of the suspended investigation and resumed the final phase of its investigation (84 FR 21360, May 14, 2019; 84 FR 27805, June 14, 2019). On September 19, 2019, Commerce signed a new agreement with certain growers/exporters of fresh tomatoes from Mexico, and again suspended its resumed investigation (84 FR 49987, September 24, 2019). On September 24, 2019, the Commission suspended its resumed final phase investigation (84 FR 54639, October 10, 2019). Following requests submitted by the Florida Tomato Exchange and by Red Sun Farms Virginia LLC, Commerce resumed its final investigation and made an affirmative determination (84 FR 57401, October 25, 2019). On October 17, 2019, the Commission continued the final phase of its investigation (84 FR 56837, October 23, 2019) and, on December 9, 2019, made an affirmative determination (84 FR 67958, December 12, 2019). Because of the September 19, 2019 Suspension Agreement, no antidumping duty order was imposed as a result of the agencies' affirmative determinations.

On August 1, 2024, Commerce initiated its fifth five-year review of the suspended investigation (89 FR 62717, August 1, 2024, and 89 FR 62786, August 1, 2024). The Commission instituted a five-year review of the suspended investigation (89 FR 62786, August 1, 2024). Following a request filed by the Florida Tomato Exchange on June 16, 2023, Commerce announced its intention to terminate the 2019 Suspension Agreement on April 18, 2025 (90 FR 16499, April 18, 2025). Subsequently, effective July 14, 2025, Commerce withdrew from and terminated the 2019 Suspension Agreement and issued an antidumping duty order on imports of fresh tomatoes from Mexico (90 FR 33363, July 17, 2025). For this reason, the Commission terminated its five-year review effective July 14, 2025 (90 FR 35933, July 30, 2025).

On May 9, 2025, the Commission received a request to review its affirmative determination in the antidumping duty investigation, No. 731-TA-747 (Fifth Review), pursuant to section 751(b) of the Act (19 U.S.C. 1675(b)). The request was filed by the Bioparques de Occidente, S.A. de C.V., Agricola La Primavera, S.A. de C.V., and Kaliroy Fresh, LLC (collectively, the “Bioparques Group” or “Requestors”). The Requestors argued that the Commission should conduct a changed circumstances review of the Commission's affirmative threat of material injury determination regarding fresh tomatoes from Mexico if the 2019 Suspension Agreement expired without continuation on July 14, 2025. The Requestors further argued that there have been several significant changes since the Commission last examined the fresh tomatoes industry in 2019, namely with respect to changes in customer preferences and demand resulting in a segmented U.S. market for fresh tomatoes, significant investment by U.S. producers in greenhouse and other “protected culture” growing facilities outside of California and Florida, major investments by U.S. growers in Mexico to supplement their U.S. tomato production operations, major investments by growers of greenhouse tomatoes from Canada resulting in an increase in imports of nonsubject greenhouse and protected culture tomatoes in the U.S. market, and structural challenges facing open field U.S. growers based in Florida and California. On June 18, 2025, the Commission published a Federal Register notice (90 FR 26065) inviting comments from the public on whether changed circumstances exist sufficient to warrant the institution of a changed circumstances review investigation of the Commission's affirmative determination concerning fresh tomatoes from Mexico if Commerce terminates the 2019 Suspension Agreement.

The Commission received six submissions in response to its Federal Register notice soliciting comments. Commenters that supported institution of changed circumstances reviews include the Bioparques Group; NS Brands, Ltd. and Naturesweet Invernaderos S. de R.L. de C.V./NatureSweet Comercializadora, S. de R.L. de C.V.; Asociación Mexicana de Horticultura Protegida, A.C., Asociación de Productores de Hortalizas del Yaqui y Mayo, Confederación de Asociaciones Agrícolas del Estado de Sinaloa, A.C., Consejo Agrícola de Baja California, A.C., and Sistema Producto Tomate; Mastronardi Produce—USA, Inc., Mastronardi International, Ltd., and Mastronardi Produce, Ltd.; and the Fresh Produce Association of the Americas. The Florida Tomato Exchange filed comments opposing institution of a changed circumstances review.

On January 21, 2026, after reviewing the comments it received in response to that request, the Commission determined that it had received information which showed changed circumstances sufficient to warrant instituting a review investigation.

Participation in the investigations and public service list.—Persons, including industrial users of the subject merchandise and, if the merchandise is sold at the retail level, representative consumer organizations, wishing to participate in the investigations as parties must file an entry of appearance with the Secretary to the Commission, as provided in section 201.11 of the Commission's rules, no later than 21 days prior to the hearing date specified in this notice. The Secretary will maintain a public service list containing the names and addresses of all persons, or their representatives, who are parties to the investigations.

For further information concerning the conduct of this review and rules of general application, consult the Commission's Rules of Practice and Procedure, part 201, subparts A and B (19 CFR part 201), and part 207, subparts A, D, E, and F (19 CFR part 207).

Please note the Secretary's Office will accept only electronic filings during this time.

Filings must be made through the Commission's Electronic Document Information System (EDIS, https://edis.usitc.gov). No in-person paper-based filings or paper copies of any electronic filings will be accepted until further notice.

Limited disclosure of business proprietary information (BPI) under an administrative protective order (APO) and BPI service list.—Pursuant to section 207.7(a) of the Commission's rules, the Secretary will make BPI gathered in these investigations available to authorized applicants under the APO issued in the investigations, provided that the application is made no later than 21 days prior to the hearing date specified in this notice. Authorized applicants must represent interested parties, as defined by 19 U.S.C. 1677(9), who are parties to the investigations. A separate service list will be maintained by the Secretary for those parties authorized to receive BPI under the APO.

Staff report.—The prehearing staff report in these investigations will be placed in the nonpublic record on April 29, 2026, and a public version will be issued thereafter, pursuant to section 207.22 of the Commission's rules.

Hearing.—The Commission will hold a hearing in connection with this investigation beginning at 9:30 a.m. on May 19, 2026, at the U.S. International Trade Commission Building. Requests to appear at the hearing should be filed in writing with the Secretary to the Commission on or before 5:15 p.m. on May 14, 2026. Any requests to appear as a witness via videoconference must be included with your request to appear. Requests to appear via videoconference must include a statement explaining why the witness cannot appear in person; the Chairman, or other person designated to conduct the review, may in their discretion for good cause shown, grant such a request. Requests to appear as remote witness due to illness or a positive COVID-19 test result may be submitted by 3 p.m. the business day prior to the hearing. Further information about participation in the hearing will be posted on the Commission's website at https://www.usitc.gov/calendarpad/calendar.html.

A nonparty who has testimony that may aid the Commission's deliberations may request permission to present a short statement at the hearing. All parties and nonparties desiring to appear at the hearing and make oral presentations should attend a prehearing conference to be held at 9:30 a.m. on May 15, 2026, at the U.S. International Trade Commission Building. Oral testimony and written materials to be submitted at the public hearing are governed by sections 201.6(b)(2), 201.13(f), and 207.24 of the Commission's rules. Parties must submit any request to present a portion of their hearing testimony in camera no later than 7 days prior to the date of the hearing.

Written submissions.—Each party who is an interested party shall submit a prehearing brief to the Commission. Prehearing briefs must conform with the provisions of section 207.23 of the Commission's rules; the deadline for filing is 5:15 p.m. on May 8, 2026. Parties may also file written testimony in connection with their presentation at the hearing, as provided in section 207.24 of the Commission's rules, and posthearing briefs, which must conform with the provisions of section 207.25 of the Commission's rules. The deadline for filing posthearing briefs is 5:15 p.m. on May 28, 2026; witness testimony must be filed no later than three days before the hearing. In addition, any person who has not entered an appearance as a party to the investigations may submit a written statement of information pertinent to the subject of the investigations on or before 5:15 p.m. on May 28, 2026. On June 23, 2026, the Commission will make available to parties all information on which they have not had an opportunity to comment. Parties may submit final comments on this information on or before 5:15 p.m. on June 25, 2026, but such final comments must not contain new factual information and must otherwise comply with section 207.30 of the Commission's rules. All written submissions must conform with the provisions of section 201.8 of the Commission's rules; any submissions that contain BPI must also conform with the requirements of sections 201.6, 207.3, and 207.7 of the Commission's rules. The Commission's Handbook on Filing Procedures, available on the Commission's website at https://www.usitc.gov/documents/handbook_on_filing_procedures.pdf, elaborates upon the Commission's procedures with respect to filings.

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigations must be served on all other parties to the investigations (as identified by either the public or BPI service list), and a certificate of service must be timely filed. The Secretary will not accept a document for filing without a certificate of service.

Authority: This review investigation is being conducted under authority of title VII of the Tariff Act of 1930; this notice is published pursuant to section 207.45 of the Commission's rules.²

² The Commission has determined the additional analysis needed to consider the asserted changed circumstances and cure data collected in its fifth review of the suspended final phase antidumping investigation was good cause to exercise its authority to waive the institution period pursuant to section 207.45(c) of the Commission's Rules of Practice and Procedure (19 CFR 207.45(c)).

By order of the Commission.
Issued: January 21, 2026.
Lisa Barton,
Secretary to the Commission.

[FR Doc. 2026-01387 Filed 1-23-26; 8:45 am]

BILLING CODE 7020-02-P